DEPARTMENT OF ENERGY

Southwestern Power Administration

Integrated System Power Rates: Correction

AGENCY: Southwestern Power Administration, DOE.

ACTION: Notice of public review and comment; Correction.

SUMMARY: Southwestern Power Administration published a document in the Federal Register (76 FR 48159) on August 8, 2011, announcing the public review and comment period on proposed rates. Inadvertently, the date listed for the combined Public Information and Comment Forum (Forum) was erroneously listed in the DATES section as of August 16, 2011. The correct date and time for the Forum, if requested, will be August 30, 2011, at 9 a.m.

FOR FURTHER INFORMATION CONTACT: Mr. James K. McDonald, Assistant Administrator, Office of Corporate Operations, Southwestern Power Administration, U.S. Department of Energy, One West Third Street, Tulsa, Oklahoma 74103, (918) 595-6690, jim.mcdonald@swpa.gov.

Dated: August 10, 2011.
Jon Worthington,
Administrator.

[FR Doc. 2011-20934 Filed 8-12-11; 4:15 pm]

BILLING CODE 6450-01-P